DEPARTMENT OF COMMERCE

National Oceanic and Atmospheric Administration

[RTID 0648-XD441]

Pacific Fishery Management Council; Public Meeting

AGENCY: National Marine Fisheries Service (NMFS), National Oceanic and Atmospheric Administration (NOAA), Commerce.

ACTION: Notice of public meetings and availability of reports.

SUMMARY: The Pacific Fishery Management Council (Pacific Council) is preparing for the annual preseason management process for the 2024 ocean salmon fisheries. This document announces public meetings planned for Winter 2024 and the anticipated availability of Pacific Council documents in the Winter/Spring of 2024.

DATES: The Pacific Council will convene two meetings of the Salmon Technical Team (STT). The meetings will be held: (1) January 16-19, 2024, and (2) February 20-23, 2024. The meetings will begin at 1 p.m. on the first day of each meeting and occur daily thereafter from 8 a.m. until 3 p.m. Pacific Time. Meeting times are an estimate, meetings will end when business for the day has been completed.

Pacific Council documents pertinent to the annual preseason management process will be available as each document is completed, which will occur between February and April in 2024 and posted on the Pacific Council website at http://www.pcouncil.org.

ADDRESSES: The STT meetings will be held at the Pacific Council office; however, the meeting venue may change to an online format if necessary due to unforeseen circumstances such as health and safety concerns.

Council address: Pacific Fishery Management Council, 7700 NE Ambassador Place, Suite 101, Portland, OR 97220-1384.

If there is a need to change to an online format, specific meeting information, including directions on how to join the meeting and system requirements will be provided in the meeting announcement on the Pacific Council's website (see www.pcouncil.org). You may send an email to Mr. Kris Kleinschmidt (kris.kleinschmidt@noaa.gov) or contact him at (503) 820-2412 for technical assistance.

FOR FURTHER INFORMATION CONTACT: Robin Ehlke, Pacific Council; telephone: (503) 820-2410.

SUPPLEMENTARY INFORMATION: At the January 16-19, 2024, meeting the STT will hold a public work session to draft “Review of 2023 Ocean Salmon Fisheries, Stock Assessment and Fishery Evaluation Document for the Pacific Coast Salmon Fishery Management Plan”. At the February 20-23, 2024 meeting the STT will hold a public work session to draft “Preseason Report I—Stock Abundance Analysis and Environmental Assessment Part 1 for 2024 Ocean Salmon Fishery Regulations”. At both meetings, the STT may also consider any other estimation or methodology issues pertinent to the 2024 ocean salmon fisheries, and discuss additional topics as time allows, including but not limited to future Council agenda items, workload planning, salmon rebuilding plans, etc.

Anticipated publishing dates for Pacific Council documents include: Mid-February 2024: “Review of 2023 Ocean Salmon Fisheries, Stock Assessment and Fishery Evaluation Document for the Pacific Coast Salmon Fishery Management Plan.”

Early March 2024: “Preseason Report I—Stock Abundance Analysis and Environmental Assessment Part 1 for 2024 Ocean Salmon Fishery Regulations.”

Late March 2024: “Preseason Report II—Proposed Alternatives and Environmental Assessment Part 2 for 2024 Ocean Salmon Fishery Regulations.” The report will include a description of the adopted salmon management alternatives and a summary of their biological and economic impacts.

Late April 2024: “Preseason Report III—Council-Adopted Management Measures and Environmental Assessment Part 3 for 2024 Ocean Salmon Fishery Regulations.”

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: November 13, 2023.
Rey Israel Marquez,
Acting Deputy Director, Office of Sustainable Fisheries, National Marine Fisheries Service.

[FR Doc. 2023-25395 Filed 11-16-23; 8:45 am]

BILLING CODE 3510-22-P